FEDERAL COMMUNICATIONS COMMISSION

47 CFR Part 90

[WT Docket No. 02-55, FCC 04-168]

Improving Public Safety Communications in the 800 MHz Band

AGENCY: Federal Communications Commission.

ACTION: Final rule; announcement of effective date.

SUMMARY: In this document, the Commission announces that the Office of Management and Budget (OMB) has approved, for a period of three years, the information collection associated with § 90.675. This document is consistent with the Report and Order, which stated that the Commission would publish a document in the Federal Register announcing the effective date of the rule.

DATES: 47 CFR 90.675, published at 69 FR 67823, Nov. 22, 2004, is effective October 12, 2017.

FOR FURTHER INFORMATION CONTACT: John A. Evanoff, Policy and Licensing Division, Public Safety and Homeland Security Bureau at (202) 418-0848 or john.evanoff@fcc.gov. For additional information concerning the Paperwork Reduction Act information collection requirements, contact Nicole Ongele at (202) 418-2991.

SUPPLEMENTARY INFORMATION: A summary of the 800 MHz Report and Order was published in the Federal Register on November 22, 2004, 69 FR 67823. The 800 MHz Report and Order adopted rules designed to abate interference to public safety entities. The summary stated that with the exception of certain rules requiring OMB approval, the rules adopted in the 800 MHz Report and Order would become effective January 21, 2005. With regard to rules requiring OMB approval, the Commission stated it will publish a document in the Federal Register announcing the effective date of these rules. The information collection requirements in §§ 22.972, 22.973, 90.674, 90.675, 90.676 and 90.677 were approved by OMB under OMB Control No. 3060-1080. In a separate document published in the Federal Register on February 8, 2005, 70 FR 6762, the Commission announced that OMB approved the information collection requirements adopted in the 800 MHz Report and Order. On February 8, 2005, 70 FR 6761, the Commission announced the effective date of §§ 22.972, 22.973, 90.674, 90.676 and 90.677. However, the announcement inadvertently omitted to announce the effective date for the information collection requirements in § 90.675. With publication of the instant document in the Federal Register, all rules adopted in the 800 MHz Report and Order are now effective. If you have any comments on the burden estimates listed below, or how the Commission can improve the collections and reduce any burdens caused thereby, please contact Nicole Ongele, Federal Communications Commission, Room 1-C823, 445 12th Street SW., Washington, DC 20554. Please include the OMB Control Number, 3060-1080, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on January 27, 2005, for the information collection requirements contained in the modifications to 47 CFR 90.675.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1080.

The foregoing notice is required by the Paperwork Reduction Act of 1995, Public Law 104-13, October 1, 1995, and 44 U.S.C. 3507.

The total annual reporting burdens and costs for the respondents are as follows:

OMB Control Number: 3060-1080.

OMB Approval Date: January 27, 2005.

OMB Expiration Date: October 31, 2017.

Title: Improving Public Safety Communications in the 800 MHz Band.

Form Number: N/A.

Respondents: Business or other for profit entities; Not-for-profit institutions, and State, Local or Tribal governments.

Number of Respondents and Responses: 428 respondents; 2,143 responses.

Estimated Time per Response: 0.5 hours-10 hours (4.5 hours average).

Frequency of Response: On occasion reporting requirement and third party disclosure requirement.

Obligation to Respond: Required to obtain or retain benefits. The statutory authority for this information collection is contained in 47 U.S.C. 151, 154, 160, 251-254, 303, and 332.

Total Annual Burden: 7,411 hours.

Total Annual Cost: $7,200.

Nature and Extent of Confidentiality: The Commission will work with respondents to ensure that their concerns regarding the confidentiality of any proprietary or public safety sensitive information are resolved in a manner consistent with the Commission's rules. See 47 CFR 0.459.

Privacy Act: No impact(s).

Needs and Uses: The information sought under §§ 22.972, 22.973, 90.674, 90.675, 90.676 and 90.677 will assist 800 MHz licensees in preventing or resolving interference and enable the Commission to implement its rebanding program. Under that program, certain licensees are being relocated to new frequencies in the 800 MHz band, with all rebanding costs paid by Sprint Nextel Corporation (Sprint). The Commission's overarching objective in this proceeding is to eliminate interference to public safety communications. The Commission's orders provided for the 800 MHz licensees in non-border areas to complete rebanding by June 26, 2008. This completion date was not met and the Commission orders also provide for rebanding to be completed in the areas along the U.S. borders with Canada and Mexico.

Federal Communications Commission.
Marlene H. Dortch,
Secretary.

[FR Doc. 2017-22062 Filed 10-11-17; 8:45 am]

BILLING CODE 6712-01-P